DEPARTMENT OF VETERANS AFFAIRS

Advisory Committee on Cemeteries and Memorials; Notice of Meeting

The Department of Veterans Affairs (VA) gives notice under Public Law 92-463 (Federal Advisory Committee Act) that a meeting of the Advisory Committee on Cemeteries and Memorials will be held April 29-30, 2008, at the Hilton Palm Beach Airport, 150 Australian Avenue, West Palm Beach, Florida. The meeting is open to the public.

The purpose of the Committee is to advise the Secretary of Veterans Affairs on the administration of national cemeteries, soldiers' lots and plots, the selection of new national cemetery sites, the erection of appropriate memorials, and the adequacy of Federal burial benefits.

On April 29, the meeting will begin at 8 a.m. and conclude at 4 p.m. The Committee will receive briefings and updates on National Cemetery Administration issues. On April 30, the Committee will tour the South Florida VA National Cemetery and then reconvene at the hotel for a business session (beginning at 1 p.m.) which will include discussions of Committee recommendations, future meeting sites, and potential agenda topics at future meetings. That session will be adjourned at 4 p.m.

Time will not be allocated for receiving oral presentations from the public. Any member of the public wishing to attend the meeting should contact Mr. Michael Nacincik, Designated Federal Officer at (202) 461-6240. The Committee will accept written comments. Comments may be transmitted electronically to the Committee at Michael.n@va.gov or mailed to the National Cemetery Administration (41C2), 810 Vermont Avenue, NW., Washington, DC 20420. In the public's communications with the Committee, the writers must identify themselves and state the organizations, associations, or persons they represent.

Dated: March 5, 2008.
By Direction of the Secretary.
E. Philip Riggin,
Committee Management Officer.

[FR Doc. E8-4764 Filed 3-12-08; 8:45 am]

BILLING CODE 8320-01-M